DEPARTMENT OF ENERGY

Federal Energy Regulatory Commission

Combined Notice of Filings # 1

January 8, 2008.

Take notice that the Commission received the following electric corporate filings:

Docket Numbers: EC08-31-000.

Applicants: Commonwealth Chesapeake Company LLC; TPF Chesapeake, LLC; Tyr Chesapeake, LLC.

Description: Application of Commonwealth Chesapeake Co, LLC et al. for approval of the sale of all of the membership interests in Commonwealth Chesapeake.

Filed Date: 12/28/2007.

Accession Number: 20080102-0112.

Comment Date: 5 p.m. Eastern Time on Friday, January 18, 2008.

Docket Numbers: EC08-32-000.

Applicants: Hillabee Energy Center, LLC; CER Generation, LLC.

Description: Joint application of Hillabee Energy Center, LLC and CER Generation, LLC for approval of transfer of certain facilities to be constructed in Alexander City, Alabama.

Filed Date: 12/28/2007.

Accession Number: 20080102-0103.

Comment Date: 5 p.m. Eastern Time on Friday, January 18, 2008.

Take notice that the Commission received the following electric rate filings:

Docket Numbers: ER03-345-010.

Applicants: New England Power Pool Participants Committee.

Description: ISO New England Inc submits the semi-annual status report on the Load Response Program.

Filed Date: 12/28/2007.

Accession Number: 20071231-0110.

Comment Date: 5 p.m. Eastern Time on Friday, January 18, 2008.

Docket Numbers: ER03-478-019; ER06-200-012; ER07-254-004; ER03-1326-012; ER07-460-003; ER05-534-013; ER05-365-013; ER05-1262-011; ER06-1093-007; ER03-296-015; ER01-3121-014; ER02-418-013; ER05-332-013; ER03-416-016; ER07-287-006; ER07-242-006; ER03-951-015; ER04-94-013; ER02-417-013; ER07-1378-003; ER05-1146-013; ER07-240-007; ER07-195-004; ER02-2085-008; ER05-481-013.

Applicants: PPM Energy; Big Horn Wind Project LLC; Casselman Windpower, LLC; Colorado Green Holdings LLC; Dillion Wind LLC; Eastern Desert Power LLC; Elk River Windfarm LLC; Flat Rock Windpower LLC; Flat Rock Windpower II LLC; Flying Cloud Power Partners LLC; Klamath Energy LLC; Klondike Wind Power II LLC; Klondike Wind Power LLC; Klondike Wind Power III LLC; MinnDakota Wind LLC; Moraine Wind LLC; Mountain View Power Partners III, LLC; Phoenix Wind Power LLC; Providence Heights Wind, LLC; Shiloh I Wind Project LLC; Twin Buttes Wind LLC; Locust Ridge Wind Farm, LLC; Northern Iowa Windpower II LLC; Trimont Wind I LLC.

Description: Notification of Change in Status of Iberdrola Renewables Companies.

Filed Date: 01/07/2008.

Accession Number: 20080107-5014.

Comment Date: 5 p.m. Eastern Time on Monday, January 28, 2008.

Docket Numbers: ER07-1096-003.

Applicants: Niagara Mohawk Power Corporation.

Description: Niagara Mohawk Power Corp. submits Service Agreement 1155 with an updated effective date and with all amendments incorporated etc.

Filed Date: 01/03/2008.

Accession Number: 20080107-0008.

Comment Date: 5 p.m. Eastern Time on Thursday, January 24, 2008.

Docket Numbers: ER07-1137-001.

Applicants: Lockhart Power Company.

Description: Lockhart Power Co. submits a non-material change in status to reflect a change in its upstream ownership and Order 697 Compliance Filing.

Filed Date: 01/02/2008.

Accession Number: 20080103-0090.

Comment Date: 5 p.m. Eastern Time on Wednesday, January 23, 2008.

Docket Numbers: ER07-1291-002; OA07-54-001.

Applicants: PacifiCorp.

Description: PacifiCorp submits First Revised Sheet 30 et al. to FERC Electric Tariff, Seventh Revised Volume 11 to their Open Access Transmission Tariff and a revised business practice—Exhibit A and Exhibit C.

Filed Date: 12/28/2007.

Accession Number: 20080102-0092.

Comment Date: 5 p.m. Eastern Time on Friday, January 18, 2008.

Docket Numbers: ER08-28-001.

Applicants: Puget Sound Energy, Inc.

Description: Puget Sound Energy, Inc submits FERC Electric Tariff Eighth Revised Volume 7, Original Sheets 3A, 5A, 22A, 49A, 54A and 61 A et al.

Filed Date: 01/03/2008.

Accession Number: 20080107-0006.

Comment Date: 5 p.m. Eastern Time on Thursday, January 24, 2008.

Docket Numbers: ER08-325-001.

Applicants: Patriot Partnership, LLC.

Description: Patriot Partnership, LLC submits Second Substitute Original Sheet 1 to FERC Electric Tariff, Original Volume 1.

Filed Date: 01/02/2008.

Accession Number: 20080103-0091.

Comment Date: 5 p.m. Eastern Time on Wednesday, January 23, 2008.

Docket Numbers: ER08-371-000.

Applicants: Cooperative Energy Incorporated.

Description: Cooperative Energy Incorporated submits its Petition for Authority to Sell Power at Market-Based Rates, Acceptance of Initial Rate Schedule, Waivers, and Blanket Authority.

Filed Date: 12/21/2007.

Accession Number: 20071227-0022.

Comment Date: 5 p.m. Eastern Time on Friday, January 11, 2008.

Docket Numbers: ER08-394-000.

Applicants: Midwest Independent Transmission System.

Description: Midwest Independent Transmission System Operator, Inc submits proposed revisions to its Open Access Transmission and Energy Markets Tariff, to revise Module E to comprehensively address long-term Resource Adequacy Requirements.

Filed Date: 12/28/2007.

Accession Number: 20080107-0064.

Comment Date: 5 p.m. Eastern Time on Monday, January 28, 2008.

Docket Numbers: ER08-396-000.

Applicants: Westar Energy, Inc.; Kansas Gas and Electric Company

Description: Westar's revised tariff sheets to its Open Access Transmission Tariff for service in the Westar Zone.

Filed Date: 12/28/2007.

Accession Number: 20071228-4005.

Comment Date: 5 p.m. Eastern Time on Friday, January 18, 2008.

Docket Numbers: ER08-397-000.

Applicants: ALLETE, Inc.

Description: ALLETE, Inc hereby proposes an increase to the rates that it currently charges 16 customers and 2 private utilities.

Filed Date: 12/28/2007.

Accession Number: 20071228-4003.

Comment Date: 5 p.m. Eastern Time on Friday, January 18, 2008.

Docket Numbers: ER08-399-000.

Applicants: Portland General Electric Company.

Description: Portland General Electric Company submits a Network Operating Agreement with EPCOR Energy Marketing (US) Inc.

Filed Date: 12/31/2007.

Accession Number: 20080102-0245.

Comment Date: 5 p.m. Eastern Time on Tuesday, January 22, 2008.

Docket Numbers: ER08-400-000.

Applicants: CalPeak Power-El Cajon LLC.

Description: CalPeak Power LLC on behalf of CalPeak Power—El Cajon LLC submits revises the Reliability Must-Run Service Agreement with the California Independent System Operator Corporation.

Filed Date: 12/31/2007.

Accession Number: 20080102-0246.

Comment Date: 5 p.m. Eastern Time on Tuesday, January 22, 2008.

Docket Numbers: ER08-401-000.

Applicants: Cheyenne Light Fuel & Power Company.

Description: Application of Cheyenne Light, Fuel and Power Company for order accepting initial market-based rate tariff, waiving regulations, and granting blanket approvals.

Filed Date: 12/31/2007.

Accession Number: 20080102-0247.

Comment Date: 5 p.m. Eastern Time on Tuesday, January 22, 2008.

Docket Numbers: ER08-405-000.

Applicants: Indianapolis Power & Light Company.

Description: Indianapolis Power & Light Co. submits a letter agreement with Wabash Valley Power Association, Inc re extension of Rate Schedule FERC 21.

Filed Date: 01/02/2008.

Accession Number: 20080103-0088.

Comment Date: 5 p.m. Eastern Time on Wednesday, January 23, 2008.

Docket Numbers: ER08-406-000.

Applicants: New England Power Pool.

Description: New England Power Pool (NEPOOL) Participants Committee submits the New England Power Pool Agreement re-member applications and termination.

Filed Date: 01/02/2008.

Accession Number: 20080103-0089.

Comment Date: 5 p.m. Eastern Time on Wednesday, January 23, 2008.

Docket Numbers: ER08-407-000.

Applicants: CMT Fund IX LLC.

Description: CMT Fund IX, LLC's request to terminate their market-based rate authority.

Filed Date: 01/03/2008.

Accession Number: 20080104-0012.

Comment Date: 5 p.m. Eastern Time on Thursday, January 24, 2008.

Docket Numbers: ER08-408-000.

Applicants: PacifiCorp.

Description: PacifiCorp submits Service Agreement 370 for Network Integration Transmission Service for Clark County Public Utility District dated 12/6/07 with Bonneville Power Administration.

Filed Date: 01/03/2008.

Accession Number: 20080107-0004.

Comment Date: 5 p.m. Eastern Time on Thursday, January 24, 2008.

Docket Numbers: ER08-409-000.

Applicants: PacifiCorp.

Description: PacifiCorp submits Service Agreement 379 dated 12/6/07 for the provisions of Long-Term Firm Point-to-Point Transmission Service with PacifiCorp Energy.

Filed Date: 01/03/2008.

Accession Number: 20080107-0005.

Comment Date: 5 p.m. Eastern Time on Thursday, January 24, 2008.

Docket Numbers: ER08-410-000.

Applicants: Power Hedging Dynamics, LLC.

Description: Power Hedging Dynamics, LLC requests that the Commission rescind authority since the company is not active and does not plan to be active.

Filed Date: 12/28/2007.

Accession Number: 20080107-0007.

Comment Date: 5 p.m. Eastern Time on Friday, January 18, 2008.

Docket Numbers: ER08-411-000.

Applicants: Tiger Natural Gas, Inc.

Description: Tiger Natural Gas Inc submits its Petition for Acceptance of Initial Tariff, Waivers and Blanket Authority designated as FERC Electric Tariff, Original Volume 1.

Filed Date: 01/04/2008.

Accession Number: 20080107-0043.

Comment Date: 5 p.m. Eastern Time on Friday, January 25, 2008.

Take notice that the Commission received the following electric securities filings:

Docket Numbers: ES08-19-000.

Applicants: AEP Texas North Power Company.

Description: Form 523—Request for Permission to Issue Securities of AEP Texas North Power Company.

Filed Date: 01/03/2008.

Accession Number: 20080103-5003.

Comment Date: 5 p.m. Eastern Time on Thursday, January 24, 2008.

Docket Numbers: ES08-20-000.

Applicants: Wheeling Power Company.

Description: Form 523—Request for Permission to Issue Securities of Wheeling Power Company.

Filed Date: 01/03/2008.

Accession Number: 20080103-5004.

Comment Date: 5 p.m. Eastern Time on Thursday, January 24, 2008.

Docket Numbers: ES08-21-000; ES08-22-000; ES08-23-000.

Applicants: Kansas Gas and Electric Company; Westar Energy, Inc.

Description: Form 523—Request for Permission to Issue Securities, Form 523—Request for Permission to Guarantee Indebtedness of Westar Energy Inc and Issue Securities of Kansas Gas and Electric Company et al.

Filed Date: 01/07/2008.

Accession Number: 20080104-5126.

Comment Date: 5 p.m. Eastern Time on Monday, January 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-538 Filed 1-14-08; 8:45 am]

BILLING CODE 6717-01-P